DEPARTMENT OF JUSTICE

National Institute of Corrections

Solicitation for a Cooperative Agreement—Curriculum Development: Planning and Implementing Effective Mental Health Services in Jails

AGENCY: National Institute of Corrections, U.S. Department of Justice.

ACTION: Solicitation for a Cooperative Agreement.

SUMMARY: The National Institute of Corrections (NIC) is soliciting proposals from organizations, groups, or individuals to enter into a cooperative agreement for an 18-month period to begin no later than September 15, 2013. Work under this cooperative agreement will involve developing curriculum, based on the Instructional Theory Into Practice (ITIP) model, to train participants in the purpose, functions, and operational complexities surrounding the housing and treatment issues of inmates exhibiting signs and symptoms of mental illness. The awardee will produce a program description (overview), detailed narrative lesson plans, a participant manual that follows the lesson plans, and presentation slides for each lesson plan. A qualified awardee will have expertise in developing effective mental health treatment inside of jails and extensive experience in working with local jails on issues related to inmate mental health treatment. This project will be a collaborative venture with the NIC Jails Division.

NIC Opportunity Number: 13JD02. This number should appear in the reference line in your cover letter, on Standard Form 424 in section 11 with the title of your proposal, and in the right justified header of your proposal.

Number of Awards and Funds Available: Under this solicitation, one award will be made. The total amount of funds available under this solicitation is $120,000.00. Funds awarded under this solicitation may only be used for activities directly related to the project as described herein unless otherwise amended in writing by NIC.

Applications: All applicants must be submitted electronically via http://www.grants.gov. Hand delivered, mailed, faxed, or emailed applications will not be accepted.

DATES: Application must be submitted before midnight on Wednesday, July 3, 2013.

Authority: Pub. L. 93-415.

Eligibility of Applicants: An eligible applicant is any public or private agency, educational institution, organization, individual or team with expertise in the described areas.

SUPPLEMENTARY INFORMATION: Background: Local jails face significant challenges in managing inmates who are mentally ill. Often, jails do not have the trained personnel or other resources to provide adequate services to these inmates and would benefit greatly from a collaborative working relationship with the community's mental health services provider. The purpose of this curriculum is to help local jail practitioners and mental health service providers (1) understand the key elements of effective mental health services for jail inmates and (2) forge a productive working relationship that facilitates the provision of services for offenders with mental illness.

Scope of Work: The cooperative agreement awardee will draft a curriculum on (1) the key elements of effective mental health services in jails and (2) the need for and types of collaboration necessary between the jail and community mental health services. The awardee will also pilot the curriculum and revise the curriculum based on an assessment of the pilot. The schedule of activities for this project should include, at a minimum, the following:

Meetings

The cooperative agreement awardee will attend an initial meeting with the NIC project manager for a project overview and preliminary planning. This will take place shortly after the cooperative agreement is awarded.

The awardee will also conduct two meetings with NIC staff and up to five subject matter experts (SMEs) in attendance. The purpose of these meetings is to identify clearly the needs for and obstacles to implementing effective mental health services in jails. Note that the SMEs will be selected by NIC in consultation with the awardee, but all costs associated with their meeting attendance will be paid by the awardee.

The awardee will meet up to three times with NIC staff during the development of the draft curriculum. One meeting will be devoted to drafting a framework for the curriculum, including module topics, performance objectives, estimated timeframes, sequencing, and potential instructional strategies. The other meetings will focus on lesson plan development, review, and revision, and on other project issues, as they arise. These meetings will last up to 3 days each.

The awardee will meet up to two times with NIC staff during the refinement of the draft curriculum into a final product. These meetings will focus on curriculum revisions and other project issues as they arise.

The applicant should plan for all meetings to take place at the NIC office in Washington, DC. However, NIC will make provision for meetings through electronic means if unforeseen circumstances require.

Development of Draft Curriculum

The cooperative agreement awardee will draft the full curriculum in consultation with NIC staff. Once the curriculum is drafted, the awardee will send it to NIC staff and selected jail mental health professionals for review.

The jail mental health professionals will be chosen by NIC in consultation with the awardee, but the awardee will reimburse them for time and expenses related to the review. The draft curriculum must be submitted sufficiently in advance of the pilot to ensure there is time to make any required changes.

Curriculum Pilot

The draft curriculum will be piloted to determine needed refinements. Although the length of the program will be determined by the content, the awardee should project that the program will last up to 3 full days.

The awardee, in conjunction with NIC, will identify up to three trainers for the program. The awardee will contract with and pay all costs associated with the trainers, including travel, lodging, meals, fees, and miscellaneous expenses. The awardee will also furnish each trainer with a set of the approved lesson plans, participant manual, and presentation slides. NIC will select program participants; notify participants of selection and program details; supply training materials, including participant manuals; and secure, through a partnership agreement with a local jurisdiction, training space.

NIC staff will attend the entire program, and the awardee will work closely with NIC staff during program delivery. At the end of each program day, the awardee will meet with NIC staff to review the modules delivered.

Curriculum Revision and Final Product

Based on the pilot and discussions with NIC staff, the awardee will revise the curriculum. The awardee will submit the revised curriculum to NIC staff for final review and make any remaining changes. The awardee will submit the completed curriculum to NIC in hard copy and on disk.

Deliverables: The final curriculum will include a program description (overview), detailed narrative lesson plans and a participant manual that follows the lesson plans (both in Word format) and presentation slides for each lesson plan (in PowerPoint format). The curriculum will be designed according to the ITIP model for adult learners. Lesson plans will be in a format that NIC provides.

FOR FURTHER INFORMATION CONTACT: All technical or programmatic questions concerning this announcement should be directed to Mike Jackson, Correctional Program Specialist, National Institute of Corrections who may be reached by email at mpjackson@bop.gov. In addition to the direct reply, all questions and responses will be posted on NIC's Web site at www.nicic.gov for public review (the names or affiliations of those submitting questions will not be posted). The Web site will be updated regularly and postings will remain on the Web site until the closing date of this cooperative agreement solicitation.

Application Requirements: Application Requirements: Applications should be typed, double spaced, in 12-point font, and reference the project by the “NIC Opportunity Number” (13JD02) and title in this announcement, “Curriculum Development: Planning and Implementing Effective Mental Health Services in Jails.” The package must include: a cover letter that identifies the audit agency responsible for the applicant's financial accounts as well as the audit period or fiscal year that the applicant operates under (e.g., July 1 through June 30); a concisely written program narrative, not to exceed 30 numbered pages, in response to the statement of work, and a detailed budget with a budget narrative explaining projected costs. Applicants may submit a description of the project teams' qualifications and expertise relevant to the project, but should not attach lengthy resumes. Applicants must also attach a lesson plan in ITIP format, the corresponding participant material and the presentation slides from a curriculum that they have developed as a sample for consideration. These attachments should not exceed 5MB.

The following forms must also be included: OMB Standard Form 424, Application for Federal Assistance; OMB Standard Form 424A, Budget information—Non-Construction Programs; OMB Standard Form 424B, Assurances—Non-Construction Programs (these forms are available at http://www.grants.gov) and DOJ/NIC Certification Regarding Lobbying; Debarment, Suspension and Other Responsibility Matters; and the Drug-Free Workplace Requirements (available at http://nicic.gov/Downloads/General/certif-frm.pdf.

Failure to supply all required forms with the application package may result in disqualification of the application from consideration.

Note: NIC will NOT award a cooperative agreement to an applicant who does not have a Dun and Bradstreet Database Universal Number (DUNS) and is not registered in the Central Contractor Registry (CCR).

A DUNS number can be received at no cost by calling the dedicated toll-free DUNS number request line at 1-800-333-0505 (if you are a sole proprietor, you would dial 1-866-705-5711 and select option 1).

Registration in the CRR can be done online at the CCR Web site: http://www.bpn.gov/ccr. A CCR Handbook and worksheet can also be reviewed at the Web site.

Review Considerations: Applications received under this announcement will be subject to the NIC Review Process. Proposals which fail to provide sufficient information to allow evaluation under the criteria below may be judged non-responsive and disqualified.

The criteria for the evaluation of each application will be as follows:

Programmatic (40%)

Are all of the project tasks adequately discussed? Is there a clear statement of how each task will be accomplished, to include the overall project goal(s), major tasks to achieve the goal(s), the strategies to be employed in completing the tasks, required staffing, and other required resources? Are there any approaches, techniques, or design aspects proposed that are new to NIC and will enhance the project?

Organizational (35%)

Do the proposed project staff members possess the skills, knowledge, and expertise necessary to complete the tasks listed under the scope of work? Does the applicant organization, group, or individual have the organizational capacity to complete all project tasks? Does the proposal contain project management and staffing plans that are realistic and sufficient to complete the project within the project time frame?

Project Management/Administration (25%)

Does the applicant identify reasonable objectives and/or milestones that reflect the key tasks, and measures to track progress? If consultants and/or partnerships are proposed, is there a reasonable justification for their inclusion in the project, and a clear structure to ensure effective coordination? Is the proposed budget realistic, does it provide a sufficient cost detail/narrative, and does it represent good value relative to the anticipated results?

Specific Requirements: Documents or other media that are produced under this award must follow these guidelines: Prior to the preparation of the final draft of any document or other media, the awardee must consult with NIC's Writer/Editor concerning the acceptable formats for manuscript submissions and the technical specifications for electronic media. For all awards in which a document will be a deliverable, the awardee must follow the guidelines listed herein, as well as follow the Guidelines for Preparing and Submitting Manuscripts for Publication as found in the “General Guidelines for Cooperative Agreements,” which can be found on our Web site at www.nicic.gov/cooperativeagreements.

All final documents and other materials submitted under this project must meet the federal government's requirement for Section 508 accessibility, including those provisions outlined in 1194 Subpart B, Technical Provisions, Subpart C, Functional Performance Criteria; and Subpart D, Documentation and Support, NIC's government product accessibility template (see www.nicic.gov/section508) outlines the agency's minimum criteria for meeting this requirement; a completed form attesting to the accessibility of project deliverables should accompany all submissions.

Note Concerning Catalog of Federal Domestic Assistance Number: The Catalog of Federal Domestic Assistance (CFDA) should be entered into box 10 of the SF 424. The CFDA number for this solicitation is 16.601, Training and Staff Development. You are not subject to Executive Order 12372 and should check box b under section 16.

Robert M. Brown, Jr.,
Acting Director, National Institute of Corrections.

[FR Doc. 2013-13945 Filed 6-11-13; 8:45 am]

BILLING CODE 4410-36-P